DEPARTMENT OF THE INTERIOR

National Park Service

AGENCY: National Park Service, Interior.

ACTION: Public notice.

SUMMARY: Pursuant to 36 CFR 51.23, public notice is hereby given that the National Park Service proposes to extend the following expiring concession contract for a period of up to 3 years until September 30, 2006.

SUPPLEMENTARY INFORMATION: The listed concession authorization expired on September 30, 2003. The National Park Service has determined that the proposed extension is necessary in order to avoid interruption of visitor services and has taken all reasonable and appropriate steps to consider alternatives to avoid such interruption. This extension will allow the National Park Service to complete and issue a prospectus leading to the competitive selection of a concessioner for new long-term concession contracts covering these operations.

Conc ID No. | Concessioner name | Park
LAME004 | Lake Mead Ferry Service, Inc. | Lake Mead National Recreation Area.

EFFECTIVE DATE: October 1, 2003.

FOR FURTHER INFORMATION CONTACT: Cynthia Orlando, Concession Program Manager, National Park Service, Washington, DC, 20240, Telephone 202/513-7156.

Dated: January 27, 2004.
Richard G. Ring,
Associate Director, Administration, Business Practices and Workforce Development.

[FR Doc. 04-4136 Filed 2-24-04; 8:45 am]

BILLING CODE 4312-53-M